NATIONAL ARCHIVES AND RECORDS ADMINISTRATION

[NARA-2015-057]

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide agencies with mandatory instructions for what to do with records when agencies no longer need them for current Government business. The instructions authorize agencies to preserve records of continuing value in the National Archives of the United States and to destroy, after a specified period, records lacking administrative, legal, research, or other value. NARA publishes notice in the Federal Register for records schedules in which agencies propose to destroy records not previously authorized for disposal or to reduce the retention period of records already authorized for disposal. NARA invites public comments on such records schedules, as required by 44 U.S.C. 3303a(a).

DATES: NARA must receive requests for copies in writing by September 10, 2015. Once NARA appraises the records, we will send you a copy of the schedule you requested. We usually prepare appraisal memoranda that contain additional information concerning the records covered by a proposed schedule. You may also request these. If you do, we will also provide them once we have completed the appraisal. You have 30 days after we send you these requested documents in which to submit comments.

ADDRESSES: You may request a copy of any records schedule identified in this notice by contacting Records Management Services (ACNR) using one of the following means:

Mail: NARA (ACNR); 8601 Adelphi Road; College Park, MD 20740-6001 Email: request.schedule@nara.gov.

FAX: 301-837-3698.

You must cite the control number, which appears in parentheses after the name of the agency that submitted the schedule, and a mailing address. If you would like an appraisal report, please include that in your request.

FOR FURTHER INFORMATION CONTACT: Margaret Hawkins, Director, by mail at Records Management Services (ACNR); National Archives and Records Administration; 8601 Adelphi Road; College Park, MD 20740-6001, by phone at 301-837-1799, or by email at request.schedule@nara.gov.

SUPPLEMENTARY INFORMATION: Each year, Federal agencies create billions of records on paper, film, magnetic tape, and other media. To control this accumulation, agency records managers prepare schedules proposing retention periods for records and submit these schedules for NARA's approval. These schedules provide for timely transfer into the National Archives of historically valuable records and authorize disposal of all other records after the agency no longer needs them to conduct its business. Some schedules are comprehensive and cover all the records of an agency or one of its major subdivisions. Most schedules, however, cover records of only one office or program or a few series of records. Many of these update previously approved schedules, and some include records proposed as permanent.

The schedules listed in this notice are media-neutral unless otherwise specified. An item in a schedule is media-neutral when an agency may apply the disposition instructions to records regardless of the medium in which it has created or maintains the records. Items included in schedules submitted to NARA on or after December 17, 2007, are media-neutral unless the item is specifically limited to a specific medium. (See 36 CFR 1225.12(e).)

No agencies may destroy Federal records without the approval of the Archivist of the United States. The Archivist grants this approval only after thorough consideration of the records' administrative use by the agency of origin, the rights of the Government and of private people directly affected by the Government's activities, and whether or not the records have historical or other value.

In addition to identifying the Federal agencies and any subdivisions requesting disposition authority, this notice states that the schedule has agency-wide applicability (in the case of schedules that cover records that may be accumulated throughout an agency) or lists the organizational unit(s) accumulating the records, provides the control number assigned to each schedule, the total number of schedule items, and the number of temporary items (the records proposed for destruction), and includes a brief description of the temporary records. The records schedule itself contains a full description of the records at the file unit level as well as their disposition. If NARA staff has prepared an appraisal memorandum for the schedule, it also includes information about the records. You may request additional information about the disposition process at the addresses above.

Schedules Pending

1. Department of the Army, Agency-wide (DAA-AU-2015-0035, 2 items, 2 temporary items). Master files of an electronic information system that contains drug testing records including specimen tracking and tests results.

2. Department of the Army, Agency-wide (DAA-AU-2015-0036, 1 item, 1 temporary item). Master files of an electronic information system that contains records relating to work performance reviews.

3. Department of Defense, Army Air Force Exchange Service (DAA-0334-2015-0001, 1 item, 1 temporary item). Daily financial transaction logs created at point-of-sale sites in military exchanges.

4. Department of Defense, Defense Contract Audit Agency (DAA-0372-2015-0001, 1 item, 1 temporary item). Master files of an electronic information system used to manage professional training for auditors.

5. Department of Health and Human Services, Indian Health Service (DAA-0513-2015-0006, 1 item, 1 temporary item). Epidemiological outbreak investigation records, including reports, surveys, studies, results, internal correspondence, and after action reports.

6. Department of Health and Human Services, Indian Health Service (DAA-0513-2015-0007, 2 items, 2 temporary items). Facility construction project files, to include internal correspondence, estimates, agreements, summaries, and reports.

7. Department of Homeland Security, United States Citizenship and Immigration Services (DAA-0566-2015-0002, 2 items, 2 temporary items). Copies of intake forms from organizations providing resettlement services for eligible Cuban and Haitian refugees, and related statistical reports.

8. Department of the Interior, Agency-wide (DAA-0048-2015-0002, 1 item, 1 temporary item). Routine surveillance recordings.

9. Department of Justice, Federal Bureau of Investigation (DAA-0065-2015-0005, 1 item, 1 temporary item). Health and medical records for persons not employed by the Bureau, including non-hired applicants, contractors, visitors to Bureau facilities, family members of Bureau employees, subjects in custody, and members of the public.

10. Department of Justice, Bureau of Prisons (DAA-0129-2015-0002, 11 items, 11 temporary items). Treatment files of inmates in re-entry facilities, and treatment staff vendor contracts.

11. Department of the Navy, United States Marine Corps (DAA-0127-2013-0014, 2 items, 2 temporary items). Master files of an electronic information system used to manage the enlistment process for individual Marines, including records relating to non-selected prospective personnel.

12. Department of the Treasury, United States Mint (DAA-0104-2013-0002, 4 items, 4 temporary items). Master files and outputs of an electronic information system used to track criminal incidents that occur on agency property.

13. Department of the Treasury, United States Mint (DAA-0104-2013-0003, 4 items, 4 temporary items). Records collected in the investigation of criminal activity committed by juvenile offenders on agency property.

Dated: August 3, 2015.
Laurence Brewer,
Director, National Records Management Program.

[FR Doc. 2015-19636 Filed 8-10-15; 8:45 am]

BILLING CODE 7515-01-P